DEPARTMENT OF HEALTH AND HUMAN SERVICES

Administration for Community Living

Availability of Program Application Instructions for Disaster Recovery Assistance for the Florida Protection and Advocacy System (P&A)

Title: Disaster Assistance for the Florida Protection and Advocacy System.

Announcement Type: Initial.

Catalog of Federal Domestic Assistance (CFDA) Number: 93.630.

DATES: The deadline date for the submission of the Disaster Assistance for the Florida Protection and Advocacy System is 11:59 p.m. Eastern Time April 17, 2023.

I. Funding Opportunity Description

The Administration for Community Living (ACL) announces a new funding opportunity to address the needs of people with disabilities impacted by Hurricanes Ian. People with disabilities often have unique needs during a crisis. For example, they may have a wider variety of functional limitations, sometimes requiring more supports, many of which are often in short supply during and after a crisis event. It is critical that individuals, service providers, and communities actively engage in emergency planning and response that is inclusive of people with disabilities to ensure they continue to be supported in their communities and not in institutions. Effective emergency and disaster response and recovery promotes and protects the health of people and the communities where they live, learn, work, and play. The disability networks funded by the ACL play essential roles in that work. As the nation's visible and trusted network of programs, these organizations provide a variety of services, including those related to assisting with emergency and disaster recovery efforts, such as offering case management support, relocating impacted individuals to safe housing in the community, and ensuring state and local services provided are accessible to people with disabilities. Understanding the resources available and the needs of people with disabilities in their areas, these networks have over 50 years of community experience and possess intimate knowledge of how to address emergencies and disasters.

Florida was directly impacted by a major category 4 hurricane which significantly affected the vital services and programs that support older adults, people with disabilities, and their family caregivers to live as independently as possible in their own communities. The Aging and Disability Network has been attempting to meet an increased need for services in impacted communities with current Older Americans Act (OAA) funding, Rehabilitation Act funding, and Developmental Disabilities Assistance and Bill of Right Act funding. None of these authorities include direct funding for disaster related activities and programs are redirecting funds intended for other activities to address immediate needs caused by the Hurricanes. This funding is intended for the ACL Aging and Disability Network in Florida to help advance recovery and response efforts that are inclusive of people with disabilities and provide gap-filling services for older adults, people with disabilities, and their family caregivers for immediate and long-term disaster response and recovery.

Specifically, this program aims to fund the P&A to support the needs of people with disabilities who were impacted by Hurricane Ian in Florida to ensure their health, wellness, and safety. Eligible entities, Protection and Advocacy Systems (P&As) under Subtitle C of the Developmental Disabilities Assistance and Bill of Rights Act of 2000 (DD Act), shall be provided funding for allowable activities that are targeted for recovery and response efforts for the disability community.

Allowable costs include program and staffing costs to support response and recovery efforts; program materials and supply costs to support response and recovery efforts; general outreach and information and referral regarding disaster and recovery assistance for people with disabilities; monitoring emergency shelters and temporary dwellings for accessibility, health, wellness, and safety; coordination with emergency response, recovery partners, and other state, local, and tribal agencies to ensure the needs of people with disabilities are met; accessible housing location, home modification, and transition assistance for those placed in institutional settings or in need of safe housing; food assistance and home delivered groceries/meals; assistance with personal care attendants and transportation; and replacement and distribution costs of critical supplies, including personal hygiene items, durable medical equipment, and medication not covered through insurance. As needed, funds may also support rebuilding of damaged offices of ACL grantees, including P&As. Although not required for funding, grantees are encouraged to explore options for funding to sustain emergency response activities after the end of the grant. There is no cost sharing or matching requirement for this funding.

Award recipients will be required to submit an annual progress report in the form of a written summary on the activities and/or staffing funded to support emergency and disaster response and recovery efforts and the results of these efforts, including number of people supported, number of partners involved, and the outcomes of these efforts.

To be eligible to receive this grant, the eligible entity must submit:

• An action plan (maximum 5-10 pages in 12-point, Times New Roman font). The action plan should define the need they plan to address and how they intend to implement authorized activities to address the needs of people with disabilities impacted by Hurricane Ian.

• A budget request (5 pages maximum) with justification for how the funds would be used to support disaster recovery efforts.

• A Letter of Assurance to ACL (see below, “Section III. Eligibility Criteria and Other Requirements” and “Section IV. Submission Information”).

Collaboration with other entities that serve people with disabilities in the plan and the budget is encouraged. Eligible entities that do not submit an action plan, a budget request with justification, and a Letter of Assurance will not be considered for funding.

II. Award Information

1. Funding Instrument Type

These awards will be made in the form of new grants to eligible entities.

2. Anticipated Total Funding per Budget Period

Awards made under this announcement have an estimated start date of October 1, 2022, and an estimated end date of September 30, 2024, for a two-year budget and performance period.

The total available funding for this opportunity is $4 million for recovery efforts in Florida. The final grant amount awarded to each grantee will vary based on individual budget requests; the reasonableness and rationale of the submitted plan and budget to meet the needs of individuals with disabilities; and availability of funding.

III. Eligibility Criteria and Other Requirements

1. Eligible Entities

The eligible entity for these awards is the state designated Protection and Advocacy System under Subtitle C of the Developmental Disabilities Assistance and Bill of Rights Act of 2000 (DD Act) that is supporting recovery efforts of Hurricane Ian in Florida.

2. Match

Cost Sharing or Matching is not required.

3. Other Requirements

A. Letter of Assurance

A Letter of Assurance is required to be submitted by the eligible entity in order to receive an award. The Letter of Assurance must include the following:

1. Assurance that the award recipient is the state designated P&A under Subtitle C of the Developmental Disabilities Assistance and Bill of Rights Act of 2000 (DD Act).

2. Assurance that funds will be spent in ways consistent with the purpose of the funding.

3. Assurance to provide annual federal financial reports.

4. Assurance to provide annual program reports in the form of a written summary on the activities and/or staffing funded to support emergency and disaster response and recovery efforts and the results of these efforts, including number of people supported, number of partners involved, and the outcomes of these efforts.

B. Action Plan

To be eligible to receive this grant, the eligible entity must submit an action plan detailing the need(s) they plan to address of people with disabilities impacted by Hurricane Ian and how they intend to implement authorized activities to address these needs. The plan must include a budget request with a budget justification for how the funds would be used to support disaster recovery efforts.

C. Intergovernmental Review

Executive Order 12372, Intergovernmental Review of Federal Programs, is not applicable to these grant applications.

IV. Submission Information

1. Application Packet

To receive funding, eligible entities must submit: a Letter of Assurance containing all the information outlined in Section III above; an Action Plan that details the identified need and how the entity proposes to address the need; and a budget request includes a breakdown of the budgetary costs with supporting justification that fully explains and justifies the costs for each major budget item.

Applications should be submitted electronically to the P&A Program Officer, Melvenia Wright, melvenia.wright@acl.hhs.gov.

2. Submission Dates and Times

To receive consideration, Application packets must be submitted by 11:59 p.m. Eastern Time on April 17, 2023. Letters of Assurance should be submitted electronically via email and have an electronic time stamp indicating the date/time submitted.

VII. Agency Contacts

1. Programmatic and Submission Issues

Direct programmatic and submission inquiries to melvenia.wright@acl.hhs.gov.

Statutory Authority: The statutory authority for grants under this program announcement is through the Public Health and Social Service Emergency Fund (Pub. L. 117-2) and Subtitle C of the Developmental Disabilities Assistance and Bill of Rights Act of 2000 (DD Act), Protection and Advocacy Systems shall be provided funding under this opportunity.

Dated: March 10, 2023.
Alison Barkoff,
Acting Administrator and Assistant Secretary for Aging.

[FR Doc. 2023-05327 Filed 3-15-23; 8:45 am]

BILLING CODE 4154-01-P